DEPARTMENT OF ENERGY

Federal Energy Regulatory Commission

[Project No. 2934-029]

New York State Electric & Gas Corporation; Notice of Application Tendered for Filing With the Commission and Establishing Procedural Schedule for Licensing and Deadline for Submission of Final Amendments

Take notice that the following hydroelectric application has been filed with the Commission and is available for public inspection.

a. Type of Application: New Major License.

b. Project No.: 2934-029.

c. Date Filed: April 1, 2019.

d. Applicant: New York State Electric & Gas Corporation (NYSEG).

e. Name of Project: Upper Mechanicville Hydroelectric Project.

f. Location: The existing project is located on the Hudson River, in Saratoga and Rensselaer Counties, New York. The project does not occupy any federal lands.

g. Filed Pursuant to: Federal Power Act, 16 U.S.C. 791(a)-825(r).

h. Applicant Contact: Hugh J. Ives, Manager, NYSEG Hydro Operations, 89 East Avenue, Rochester, NY 14649; (585) 724-8209; hugh.ives@avangrid.com.

i. FERC Contact: Jody Callihan, (202) 502-8278 or jody.callihan@ferc.gov.

j. This application is not ready for environmental analysis at this time.

k. Project Description: The existing Upper Mechanicville Hydroelectric Project consists of: (1) A 700-foot-long concrete gravity dam with a crest elevation of 66.6 feet National Geodetic Vertical Datum of 1929 (NGVD29); (2) 3 spillway bays each extending 222 feet across the length of the dam and separated by a 7.5-foot to 10.5-foot-wide concrete pier, with each spillway bay containing 12 pneumatic Obermeyer crest gates that are 6 feet high; (3) a 1.8-mile-long impoundment with a 380-acre surface area and gross storage capacity of 10,735 acre-feet at a normal pool elevation of 72.6 feet NGVD29; (4) an intake channel with two reinforced guide walls and three 35-foot-diameter cofferdam walls constructed of sheet piling; (5) a 20-foot-wide and 7.5-foot-high intake bypass sluice gate; (6) a 105.5-foot-long by 122-foot-wide powerhouse containing two 12,780 horsepower Kaplan turbines and two Siemens-Allis generators each having a rated capacity of 8,265 kilowatts; (7) a tailrace approximately 1,200 feet long and 120 feet wide with a bi-level bottom designed to minimize cross-currents; (8) one 1.10-mile-long, 34.5-kilovolt transmission line; and (9) appurtenant facilities.

During the non-navigation season (typically from December 1 through April 30), NYSEG operates the project in a run-of-river (ROR) mode and maintains the impoundment at an elevation of 72.6 feet NGVD29. During the navigation season (typically May 1 through November 30), NYSEG periodically spills water to lower the impoundment up to 3 feet below full pool, as directed by the New York State Canal Corporation, to accommodate navigation at lock C-3, and uses all available remaining inflow (that is not used to support navigation) for generation purposes. NYSEG proposes to continue operating the project as it does currently, to support both generation and navigation. In addition, NYSEG proposes to enhance fish passage at the project by: (1) Installing upstream passage for American eel (4 years post-license); (2) developing an agreement with the New York State Canal Corporation to modify lock operations to accommodate the upstream passage of blueback herring and American shad (commencing 2 years post-license); and (3) modifying the project's intake bypass sluice gate to provide an additional route of downstream fish passage from April 1 through November 30. The project currently generates an annual average of 88,537 megawatt-hours.

l. Locations of the Application: A copy of the application is available for review at the Commission in the Public Reference Room or may be viewed on the Commission's website at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the Mechanicville District Public Library located at 190 North Main Street, Mechanicville, NY 12118 and the A.E. Diver Memorial Library located at 136 Main Street, Schaghticoke, NY 12154.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | June 2019.
Filing of recommendations, preliminary terms and conditions, and fishway prescriptions | August 2019.
Commission issues Environmental Assessment (EA) | December 2019.
Comments on EA | February 2020.
Modified Terms and Conditions | April 2020.

o. Final amendments to the application must be filed with the Commission no later than 30 days from the issuance date of the notice of ready for environmental analysis.

Dated: April 15, 2019.
Nathaniel J. Davis, Sr.,
Deputy Secretary.

[FR Doc. 2019-07949 Filed 4-18-19; 8:45 am]

BILLING CODE 6717-01-P